ENVIRONMENTAL PROTECTION AGENCY

[FRL-9465-2; Docket ID No. EPA-HQ-ORD-2011-0671]

Draft Toxicological Review of n-Butanol: In Support of Summary Information on the Integrated Risk Information System (IRIS)

AGENCY: Environmental Protection Agency (EPA).

ACTION: Notice of Public Comment Period and Listening Session; Extension.

SUMMARY: EPA announced a 60-day public comment period and a listening session on August 31, 2011 (76 FR 54227) for the external review draft human health assessment titled, “Toxicological Review of n-Butanol: In Support of Summary Information on the Integrated Risk Information System (IRIS)” (EPA/635/R-11/081A). EPA is extending the public comment period one week because of a one-week delay in the release of the Toxicological Review to the public. The draft assessment was prepared by the National Center for Environmental Assessment (NCEA) within the EPA Office of Research and Development (ORD). EPA is releasing this draft assessment solely for the purpose of pre-dissemination peer review under applicable information quality guidelines. This draft assessment has not been formally disseminated by EPA. It does not represent and should not be construed to represent any Agency policy or determination. After public review and comment, an EPA contractor will convene an expert panel for independent external peer review of this draft assessment. The public comment period and external peer review meeting are separate processes that provide opportunities for all interested parties to comment on the assessment. The external peer review meeting will be scheduled at a later date and announced in the Federal Register. Public comments submitted during the public comment period will be provided to the external peer reviewers before the panel meeting and considered by EPA in the disposition of public comments. Public comments received after the public comment period closes will not be submitted to the external peer reviewers and will only be considered by EPA if time permits.

The listening session will be held on October 26, 2011, during the public comment period for this draft assessment. The purpose of the listening session is to allow all interested parties to present scientific and technical comments on draft IRIS health assessments to EPA and other interested parties attending the listening session.

DATES: The public comment period will be extended to end November 7, 2011. Comments should be in writing and must be received by EPA by November 7, 2011.

The listening session on the draft assessment for n-Butanol will be held on October 26, 2011, beginning at 9 a.m. and ending at 4 p.m., Eastern Daylight Time or when the last presentation has been completed. To attend the listening session, interested parties should register no later than October 19, 2011, following the instructions in the August 31 Federal Register Notice (76 FR 54227). The location and instructions for entering the building can be found in the August 31, 2011, Federal Register Notice (76 FR 54227).

ADDRESSES: The draft “Toxicological Review of n-Butanol: In Support of Summary Information on the Integrated Risk Information System (IRIS)” is available primarily via the Internet on the NCEA home page under the Recent Additions and Publications menus at http://www.epa.gov/ncea. A limited number of paper copies are available from the Information Management Team (Address: Information Management Team, National Center for Environmental Assessment (Mail Code: 8601P), U.S. Environmental Protection Agency, 1200 Pennsylvania Avenue, NW., Washington, DC 20460; telephone: 703-347-8561; facsimile: 703-347-8691). If you request a paper copy, please provide your name, mailing address, and the draft assessment title.

Comments may be submitted electronically via http://www.regulations.gov, by e-mail, by mail, by facsimile, or by hand delivery/courier. Please follow the detailed instructions provided in the SUPPLEMENTARY INFORMATION section of the August 31, 2011, Federal Register Notice (76 FR 54227).

Additional Information: For information on the docket, http://www.regulations.gov, or the public comment period, please contact the Office of Environmental Information (OEI) Docket (Mail Code: 2822T), U.S. Environmental Protection Agency, 1200 Pennsylvania Ave., NW., Washington, DC 20460; telephone: 202-566-1752; facsimile: 202-566-1753; or e-mail: ORD.Docket@epa.gov.

For information on the draft assessment, please contact Ambuja Bale, National Center for Environmental Assessment [Mail Code: (8601-P)], U.S. Environmental Protection Agency, National Center for Environmental Assessment, Office of Research and Development, U.S. Environmental Protection Agency, 1200 Pennsylvania Ave., NW., Washington, DC 20460; telephone: 703-347-8643; facsimile: 703-347-8689; or e-mail: FRN_Questions@epa.gov.

Dated: September 9, 2011.
Darrell A. Winner,
Acting Director, National Center for Environmental Assessment.

[FR Doc. 2011-23664 Filed 9-14-11; 8:45 am]

BILLING CODE 6560-50-P